DEPARTMENT OF HEALTH AND HUMAN SERVICES

Centers for Disease Control and Prevention

[30Day-15-15KZ]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Research on the Efficacy and Feasibility of Essentials for Parenting Toddlers and Preschoolers—New—National Center for Injury Prevention and Control (NCIPC), Centers for Disease Control and Prevention (CDC).

Background and Brief Description

The Centers for Disease Control and Prevention (CDC) seeks a two-year OMB approval to conduct a new information collection for a study entitled, “Research on the Efficacy and Feasibility of Essentials for Parenting Toddlers and Preschoolers”.

Child maltreatment is both widespread and impactful. It is estimated that 1 in 58 U.S. children had been maltreated in a 1-year period (i.e., victims of physical, sexual, and emotional abuse or neglect). Millions of other American children are exposed to maltreatment that does not meet thresholds for clinical significance, but is nonetheless detrimental to child health.

Parent training is arguably the single most effective prevention initiative developed to date. Although there are potentially far-reaching impacts of parent training to improve public health, empirically-supported parent training is not widely available. The public health challenge is how to make the content of these empirically-supported parent training programs—which largely focus on the same parenting skills and approaches—accessible to the majority of American parents.

To leverage the strength of empirically supported parent training as a broadly disseminated prevention tool, the CDC has developed a resource tool called “Essentials for Parenting Toddlers and Preschoolers (EFP)”. This web-based resource includes the typical content of empirically supported parent training programs and uses a psychoeducational approach including modeling (through its videos) and practice (through its activities).

This study is an empirical evaluation using an intensive repeated measures design to test the efficacy, feasibility, and use of EFP as administered in guided and unguided formats. The proposed data collection fits into NCIPC's research agenda's priorities in preventing child maltreatment.

There are no costs to respondents other than their time. The total estimated annual burden hours are 2,050.

Estimated Annualized Burden Hours
Type of respondents | Form name | Number of respondents | Number of responses per respondent | Average burden per response (in hours)
Parents (both Natural Navigation [NN] and Guided Navigation [GN] groups) | Form 1—Screening and Demographics Questionnaires—Attachment I1 | 400 | 1 | 15/60
| Form 2—Detailed Assessment Measures—Attachment I2 | 200 | 2 | 45/60
| Form 3—Core Assessment Measures (Rotating)—Attachment I3 | 200 | 18 | 15/60
| Form 4—Parental EFP Skills Knowledge Scale—Attachment I4 | 200 | 8 | 15/60
| Form 5—Parental EFP Skills Usefulness Scale—Attachment I5 | 200 | 6 | 15/60
| Form 6—Therapy Attitude Inventory and System Usability Scale—Attachment I6 | 200 | 1 | 15/60

Leroy A. Richardson,
Chief, Information Collection Review Office, Office of Scientific Integrity, Office of the Associate Director for Science,Office of the Director, Centers for Disease Control and Prevention.

[FR Doc. 2015-12809 Filed 5-27-15; 8:45 am]

BILLING CODE 4163-18-P